DEPARTMENT OF ENERGY

Federal Energy Regulatory Commission

[Docket No. ER94-1188-031, et al.]

LG&E Energy Marketing Inc., et al.; Electric Rate and Corporate Regulation Filings

January 14, 2000.

Take notice that the following filings have been made with the Commission:

1. LG&E Energy Marketing Inc.; Energy Atlantic, LLC; Dynergy Power Services, Inc.; DC Tie, Inc.; Rainbow Energy Marketing Corporation

[Docket Nos. ER94-1188-031; ER98-4381-005; ER94-1612-024; ER91-435-032; ER94-1061-023]

Take notice that on January 12, 2000, the above-mentioned power marketers filed quarterly reports with the Commission in the above-mentioned proceedings for information only.

2. Enova Energy, Inc.; Aurora Power Resources; PS Energy Group, Inc.; Golden Valley Power Company; The Mack Services Group

[Docket Nos. ER96-2372-017; ER98-573-004; ER99-1876-003; ER98-4334-005; ER99-1750-004]

Take notice that on January 13, 2000, the above-mentioned power marketers filed quarterly reports with the Commission in the above-mentioned proceedings for information only.

3. Northwest Natural Gas Company

[Docket No. ER97-683-006]

Take notice that on January 10, 2000, Northwest Natural Gas Company filed their quarterly report for the quarter ending December 31, 1999 for information only.

4. GPU Advanced Resources, Inc.; Fortistar Power Marketing LLC

[Docket Nos. ER97-3666-012; ER97-3666-013; ER98-3393-005]

Take notice that on January 13, 2000, the above-mentioned power marketers filed quarterly reports with the Commission in the above-mentioned proceedings for information only.

5. Energy Atlantic, LLC

[Docket No. ER98-4381-005]

Take notice that on January 12, 2000, Energy Atlantic, LLC filed their quarterly report for the quarter ending December 31, 1999, for information only.

6. Energy West Resources

[Docket No. ER99-874-000]

Take notice that on January 12, 2000, Energy West Resources, Inc., tendered for filings its amended petition to the Commission for acceptance of EWR Rate Schedule FERC No. 1; the granting of certain blanket approvals, including the authority to sell electricity at market-based rates; and the waiver of certain Commission Regulations.

EWR intends to engage in wholesale electric power and energy purchases and sales as a marketer. EWR is not in the business of generating or transmitting electric power. EWR is a wholly owned subsidiary of EWI which owns and operates natural gas and propane distribution facilities.

Comment date: February 1, 2000, in accordance with Standard Paragraph E at the end of this notice.

7. NJR Energy Services Company; MAC Power Marketing, L.L.C.

[Docket Nos. ER99-2384-003; ER98-575-005]

Take notice that on January 11, 2000, the above-mentioned power marketers filed quarterly reports with the Commission in the above-mentioned proceedings for information only.

8. MidAmerican Energy Company

[Docket No. ER00-1075-000]

Take notice that on January 12, 2000, MidAmerican Energy Company (MidAmerican), 666 Grand Avenue, 2900 Ruan Center, Des Moines, Iowa 50309 tendered for filing proposed changes to its Open Access Transmission Tariff (OATT). The changes are for the purpose of accommodating retail open access in Illinois where MidAmerican operates as a public utility providing electric delivery service.

MidAmerican proposes that the rate schedule change become effective on April 1, 2000.

The proposed rate schedule changes have been mailed to all Transmission Customers having service agreements under the OATT, the Iowa Utilities Board and the Illinois Commission, the South Dakota Public Service Commission.

Comment date: February 1, 2000, in accordance with Standard Paragraph E at the end of this notice.

9. New York State Electric & Gas Corporation

[Docket No. ER00-1076-000]

Take notice that on January 12, 2000, New York State Electric & Gas Corporation (NYSEG) tendered for filing pursuant to Section 205 of the Federal Power Act and Section 35.13 of the Federal Energy Regulatory Commission's (FERC or Commission) Regulations, a request for modification of its tax factor applicable to service rendered under Schedules 7 and 8 and Attachment H of NYSEG's OATT.

NYSEG requests waiver of the Commission's sixty day notice requirement and an effective date of February 1, 2000, for the new tax factor.

NYSEG has served copies of the filing upon each OATT customer on the attached service list and the PSC.

Comment date: February 1, 2000, in accordance with Standard Paragraph E at the end of this notice.

10. FPL Energy Power Marketing Inc.

[Docket No. ER00-1077-000]

Take notice that on January 12, 2000, FPL Energy Power Marketing, Inc. (FPLEPM) tendered for filing Amendment No. 1 to the Transitional Power Sales Agreement, System Sale of Energy, Capacity and Related Services [Fossil] between FPLEPM and Central Maine Power Company.

FPLEPM requests an effective date of January 1, 2000.

Comment date: February 1, 2000, in accordance with Standard Paragraph E at the end of this notice.

11. West Texas Utilities Company

[Docket No. ER00-1079-000]

Take notice that on January 12, 2000, West Texas Utilities Company (WTU) filed a new Facility Schedule to its Interconnection Agreement with Brazos Electric Power Cooperative, Inc. (Brazos) to establish a new point of interconnection between WTU and Brazos.

WTU seeks an effective date of January 13, 2000 and, accordingly, seeks waiver of the Commission's notice requirements.

Copies of the filing have been served on Brazos and the Public Utility Commission of Texas.

Comment date: February 1, 2000, in accordance with Standard Paragraph E at the end of this notice.

12. California Independent System Operator Corporation

[Docket No. ER00-1080-000]

Take notice that on January 12, 2000, the California Independent System Operator Corporation (ISO), tendered for filing a Participating Generator Agreement between the ISO and San Joaquin Cogen Limited for acceptance by the Commission.

The ISO states that this filing has been served on San Joaquin Cogen Limited and the California Public Utilities Commission.

The ISO is requesting waiver of the 60-day notice requirement to allow the Participating Generator Agreement to be made effective January 6, 2000.

Comment date: February 1, 2000, in accordance with Standard Paragraph E at the end of this notice.

13. Platte-Clay Electric Cooperative, Inc.

[Docket No. ER00-1081-000]

Take notice that on January 12, 2000, Platte-Clay Electric Cooperative Inc. (Platte-Clay) submitted for filing an agreement for the Interchange of Electric Power and Energy Between Platt-Clay Electric Cooperative Inc. and the City of Cameron, Missouri and various Border Customer Agreements Between Platte-Clay Electric Cooperative Inc. and Missouri Public Service, a Division of Utilicorp United, Inc. pursuant to § 205 of the Federal Power Act (FPA), 16 U.S.C. § 824d, and section 35.12 of the Federal Energy Regulatory Commission's (Commission) Regulations (18 CFR 35.12).

Platte-Clay's filing is available for public inspection at its offices in Kearney, Missouri.

Platte-Clay requests an effective date of January 18, 2000.

Comment date: February 1, 2000, in accordance with Standard Paragraph E at the end of this notice.

14. Avista Corporation

[Docket No. ER00-1082-000]

Take notice that on January 13, 2000, Avista Corporation (AVA) tendered for filing with the Federal Energy Regulatory Commission, pursuant to Section 35.12 of the Commission's Regulations (18 CFR 35.12), an executed Mutual Netting Agreement with the Public Service Company of Colorado.

AVA requests an effective date of January 1, 2000.

The filing has been served on the following: Mr. Cary Oswald, Credit Analysis Manager, Public Analysis Manager, Public Service Company of Colorado, 1099 18th Street, Suite 3000, Denver, CO 80202.

Comment date: February 2, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-1578 Filed 1-21-00; 8:45 am]

BILLING CODE 6717-01-M